DEPARTMENT OF COMMERCE

Final Damage Assessment and Restoration Plan and Environmental Assessment for the T/B DBL 152 Oil Spill in the Gulf of Mexico

AGENCY: National Oceanic and Atmospheric Administration (NOAA), Commerce.

ACTION: Notice of Availability of a Final Damage Assessment and Restoration Plan and Environmental Assessment for the T/B DBL 152 Oil Spill in the Gulf of Mexico.

SUMMARY: NOAA, the Natural Resource Trustee for this project (identified below) has prepared a Final Damage Assessment and Restoration Plan and Environmental Assessment (Final DARP/EA) that addresses natural resource injuries and resource service losses resulting from the November 11, 2005 T/B DBL 152 oil spill in the Gulf of Mexico. This Final DARP/EA presents NOAA's assessment of the injuries to natural resources and services and NOAA's final plan to compensate the public for those losses. NOAA's selected restoration alternative is an estuarine shoreline protection and salt marsh restoration project at the Texas Chenier Plain National Wildlife Refuge Complex. NOAA previously provided the public an opportunity to comment on the Draft DARP/EA. The Draft DARP/EA was released on March 18, 2013 and was announced in a press release on NOAA's Web site and in the Federal Register (March 18, 2013; 78 FR 16655). NOAA received several comments on the Draft DARP/EA and prepared a response to these comments, described in further detail in the Supplementary Information section below. The full text of the public comments received is provided in Appendix C to the Final DARP/EA, and the response to the comments prepared by NOAA, which includes a summary of changes made to the Draft DARP/EA in response to the comments, is provided in Appendix B of the Final DARP/EA. The purpose of this notice, which is issued under the authority of the Oil Pollution Act (OPA) and the National Environmental Policy Act, is to inform the public of the availability of the Final DARP/EA and of the selected restoration alternative.

ADDRESSES: Requests for copies of the Final DARP/EA should be directed to Kris Benson of NOAA, 4700 Avenue U, Building 307, Galveston, TX 77551, email: kristopher.benson@noaa.gov. The Final DARP/EA and the Finding of No Significant Impact (FONSI) are available at: https://casedocuments.darrp.noaa.gov/southeast/dbl152/admin.html.

FOR FURTHER INFORMATION CONTACT: Kris Benson of NOAA, 4700 Avenue U, Building 307, Galveston, TX 77551, email: kristopher.benson@noaa.gov.

SUPPLEMENTARY INFORMATION:

Incident and Response

On November 11, 2005, while en route from Houston, Texas, to Tampa, Florida, the integrated tug-barge unit comprised of the tugboat “Rebel” and the double-hull Tank Barge (T/B) DBL 152 struck the submerged remains of a pipeline service platform in the Gulf of Mexico that collapsed during Hurricane Rita. An estimated 45,846 barrels of oil (1,925,532 gallons) were discharged into federal waters of the Gulf of Mexico as a result of this incident, most of which sank to the ocean floor. Of this volume, an estimated 2,355 barrels (98,910 gallons) were recovered by divers. In total, an estimated 43,491 barrels (1,826,622 gallons) of oil remained unrecovered at the time submerged oil cleanup operations were discontinued in January 2006.

Government agencies responded to the incident to supervise and assist in clean-up and begin assessing the impact of the spill on natural resources. Under the federal Oil Pollution Act (OPA), 33 U.S.C. 2701-2761, the National Oceanic and Atmospheric Administration (NOAA), of the Department of Commerce, is responsible for restoring natural resources injured by the DBL 152 oil spill with funding from the responsible party (RP) or, where an RP does not exist or exceeds its limit of liability, the Oil Spill Liability Trust Fund (OSLTF) administered by the U.S. Coast Guard (USCG). The measure of damages to natural resources is the cost of restoring, rehabilitating, replacing or acquiring the equivalent of the injured natural resources, compensation for the diminution in value of those natural resources pending restoration, and the reasonable costs of assessing such damages. 33 U.S.C. 2702(b)(2)(A), 2706(d)(1). All recoveries for the first two elements are to be spent implementing a restoration plan developed by the trustees. 33 U.S.C. 2706(f).

Natural Resource Damage Assessment and Restoration Planning

NOAA, acting as Trustee on the public's behalf, has conducted a natural resource damage assessment (NRDA) to determine the nature and extent of natural resource losses resulting from this incident and the restoration actions needed to restore these losses. The NRDA was conducted using the OPA NRDA regulations found at 15 CFR part 990. On the basis of data provided by the NRDA, NOAA prepared this Final Damage Assessment and Restoration Plan/Environmental Assessment (Final DARP/EA) to consider restoration alternatives and identify a selected alternative.

An injury assessment conducted by NOAA determined that the primary injury resulting from this incident was to offshore benthic habitat. This conclusion is described in greater detail in the Final DARP/EA.

NOAA considered various restoration alternatives to compensate the public for spill-related injuries and to restore comparable natural resource services to those that were provided by the resources injured by the spill. The selected restoration alternative identified by NOAA is an estuarine shoreline protection and salt marsh restoration project at the Texas Chenier Plain National Wildlife Refuge Complex. The project area is located in Galveston Bay, Texas. The project is designed to protect shoreline with a protective structure consisting of rip-rap habitat. The project will be designed so that salt marsh habitat will be created behind the breakwater. Prior to implementation, the project will undergo pre-project engineering to design the shoreline protection structure and the marsh.

The U.S. Coast Guard (USCG) has determined that the RP has exceeded its limit of liability under OPA. Therefore, the Final DARP/EA will be submitted to the Oil Spill Liability Trust Fund (OSLTF) as part of a claim for funds to implement the selected restoration project. The OSLTF is administered by the USCG and is maintained through fees paid by industry.

Public Comments and NOAA's Response

NOAA prepared the Final DARP/EA after consideration of the public's response to the Draft DARP/EA. One of the comments received was supportive of the restoration project alternatives. Other comments received asked for clarity on various points in the Draft DARP/EA and the NRDA process, questioned various aspects of the NRDA for this site, questioned the appropriateness of the selected project to the specific injury, or requested additional evaluation or monitoring by NOAA. The full text of the public comments received is provided in Appendix C to the Final DARP/EA, and NOAA's full response to the comments received, along with a discussion of changes made to the DARP/EA in response to the comments, is provided in Appendix B to the Final DARP/EA.

A brief summary of the changes made to the DARP/EA in response to the comments is as follows:

• A paragraph on overlapping impacts of the DBL 152 oil spill and the 2010 Deepwater Horizon Oil Spill was revised in Section 4 of the Final DARP/EA.

• A discussion was added to Section 6 of the Final DARP/EA regarding a candidate project proposed by the Louisiana Oil Spill Coordinator's Office (LOSCO) on behalf of the Louisiana Oil Spill Natural Resource Trustees.

• Clarifying language was added to Section 3 of the Final DARP/EA regarding potential injuries to water column species.

Administrative Record

Pursuant to the OPA NRDA regulations, NOAA has developed an Administrative Record to support its restoration planning decisions and inform the public of the basis of their decisions. Information and documents, including public comments received on the Draft DARP/EA, the Final DARP/EA, and other related restoration planning documents, are also part of the Administrative Record. The documents comprising the public record (Administrative Record) can be viewed at https://casedocuments.darrp.noaa.gov/southeast/dbl152/admin.html.

Dated: June 3, 2016.
David Westerholm,
Director, Office of Response and Restoration.

[FR Doc. 2016-16357 Filed 7-8-16; 8:45 am]

BILLING CODE 3510-JE-P